CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of its Innovative and Demonstration Application Instructions using the Corporation's electronic application system, eGrants. Completion of the Innovative and Demonstration Application Instructions is required to be considered for funding.

Copies of the information collection requests can be obtained by contacting the office listed in the ADDRESSES section of this notice.

DATES: Written comments must be submitted to the individual and office listed in the ADDRESSES section by June 20, 2005.

ADDRESSES: You may submit comments, identified by the title of the information collection activity, by any of the following methods:

(1) By mail sent to: Corporation for National and Community Service, Office of Grants Policy and Operations; Attention Ms. Shelly Ryan, Coordinator, Grant Reviews; 522 North Central Avenue, Room 205-A, Phoenix, AZ 85004.

(2) By hand delivery or by courier to the Corporation's mailroom at Room 6010 at the mail address given in paragraph (1) above, between 9 a.m. and 4 p.m. Monday through Friday, except Federal holidays.

(3) By fax to: (602) 279-4030, Attention Ms. Shelly Ryan, Coordinator, Grant Reviews.

(4) Electronically through the Corporation's e-mail address system: innovative@cns.gov.

FOR FURTHER INFORMATION CONTACT: Shelly Ryan, (602) 379-4825, ext. 3 or by e-mail at innovative@cns.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Description

The Innovative and Demonstration application instructions are used for special initiatives that are not supported by other CNCS OMB approved application instructions.

Background

The Innovative and Demonstration Application is completed by applicant organizations interested in supporting an Innovative and Demonstration program. The application instructions provide the information, instructions and forms that potential applicants need to complete and submit to the Corporation for funding. The application is completed electronically by using the Corporation's Web-based system, eGrants.

The Corporation seeks to renew and revise application instructions for Innovative and Demonstration Application Instructions using the eGrants system. When revised, the application will include additional instructions to clarify narrative and work plan sections; will contain an updated list of “Service Categories” used by applicants to identify the types of needs the national service participants will meet; and will contain current references used in the grants management system. The application will otherwise be used in the same manner as the existing application.

Type of Review: Renewal.

Agency: Corporation for National and Community Service.

Title: Innovative and Demonstration Application Instructions.

OMB Number: 3045-0083.

Agency Number: None.

Affected Public: Eligible applicants to the Corporation for funding for Innovative and Demonstrations.

Total Respondents: 300.

Frequency: On occasion.

Average Time Per Response: Twenty (20) hours.

Estimated Total Burden Hours: 6,000 hours.

Total Burden Cost (capital/startup): None.

Total Burden Cost (operating/maintenance): None.

Comments submitted in response to this notice will be summarized and/or included in the request for Office of Management and Budget approval of the information collection request; they will also become a matter of public record.

Dated: April 6, 2005.
Marlene Zakai,
Director, Office of Grants Policy and Operations.

[FR Doc. 05-7752 Filed 4-18-05; 8:45 am]

BILLING CODE 6050-$$-P